DEPARTMENT OF COMMERCE

National Oceanic and Atmospheric Administration

[RTID 0648-XB765]

Western Pacific Fishery Management Council; Public Meetings

AGENCY: National Marine Fisheries Service (NMFS), National Oceanic and Atmospheric Administration (NOAA), Commerce.

ACTION: Notice of public meetings.

SUMMARY: The Western Pacific Fishery Management Council (Council) will hold meetings of its Archipelagic Plan Team (APT) by web conference to discuss fishery management issues and develop recommendations for future management of fisheries in the Western Pacific Region.

DATES: The APT will meet on Wednesday, February 16, 2022, between 1 p.m. and 4 p.m., Hawaii Standard Time (HST). For specific times and agendas, see SUPPLEMENTARY INFORMATION.

ADDRESSES: Audio and visual portions for Archipelagic Plan Team meeting can be accessed at: https://wprfmc.webex.com/wprfmc/j.php?MTID=m379247624d6bec8c8f40ed3a14c8d5fb. Web conference access information and instructions for providing public comments will be posted on the Council website at www.wpcouncil.org. For assistance with the web conference connection, contact the Council office at (808) 552-8220.

FOR FURTHER INFORMATION CONTACT: Kitty M. Simonds, Executive Director, Western Pacific Fishery Management Council; phone: (808) 522-8220 (voice) or (808) 522-8226 (fax).

SUPPLEMENTARY INFORMATION: The APT meeting will be held on February 16, 2022, from 1 p.m. to 4 p.m. Hawaii Standard Time (HST) (noon to 3 p.m. Samoa Standard Time (SST); 9 a.m. to 12 p.m. on February 17, 2022, Chamorro Standard Time (ChST)). Opportunities to present oral public comment will be provided throughout the agendas. The order of the agenda may change, and will be announced in advance at the meetings. The meetings may run past the scheduled times noted above to complete scheduled business.

Agenda for the Archipelagic Plan Team Meeting

Wednesday, February 16, 2022, 1 p.m.-4 p.m. HST (noon-3 p.m. SST; Thursday, February 17, 2022, 9 a.m.-12 p.m. ChST)

1. Welcome and Introductions

2. Approval of Draft Agenda & Assignment of Rapporteurs

3. Analysis of Available Data for the Reclassification of the Territory Bottomfish Management Unit Species (BMUS) Complex

4. Developing the Options for the Reclassification of the Territorial BMUS

5. Review of the Non-Commercial Module for the Annual Stock Assessment Fishery Evaluation Report

6. Public Comment

7. Other Business

8. Plan Team Discussion and Recommendations

Special Accommodations

These meetings are accessible to people with disabilities. Please direct requests for sign language interpretation or other auxiliary aids to Kitty M. Simonds (see FOR FURTHER INFORMATION CONTACT section above) at least 5 days prior to the meeting date.

(Authority: 16 U.S.C. 1801 et seq.)

Dated: January 27, 2022.
Tracey L. Thompson,
Acting Deputy Director, Office of Sustainable Fisheries, National Marine Fisheries Service.

[FR Doc. 2022-02087 Filed 2-1-22; 8:45 am]

BILLING CODE 3510-22-P